ENVIRONMENTAL PROTECTION AGENCY

[ER-FRL-6641-2]

Environmental Impact Statements; Notice of Availability

Responsible Agency: Office of Federal Activities, General Information (202) 564-7167, or http://epa.gov/compliance/nepa/.

Weekly receipt of Environmental Impact Statements

Filed June 9, 2003, through June 13, 2003.

Pursuant to 40 CFR 1506.9.

EIS No. 030274, Final EIS, AFS, ID, Gaylord North Timber Sale Project, harvesting timber, Council Ranger District, Payette National Forest, Adam County, ID, wait period ends: July 21, 2003, contact: Jeff Canfield (208) 253-0100.

EIS No. 030275, Draft EIS, FHW, IN, U.S. 31 Improvement Project (I-45 to IN-38), between I-465 North Leg and IN-38, NPDES permit and U.S. Army section 10 and 404 permits, Hamilton County, IN, comment period ends: August 4, 2003, contact: Robert Dirks (317) 226-7492.

This document is available on the Internet at: http://www.us3/indiana.com.

EIS No. 030276, Draft EIS, BLM, CO, Silverton Outdoor Learning and Recreation Center, authorization for long-term use of 1,300 acres for backcountry-type skiing, summer recreation and educational activities, amendment of the San Juan/San Miguel Resource Management Plan, San Juan County, CO, comment period ends: September 18, 2003, contact: Richard Speegle (970) 375-3310.

EIS No. 030277, Final EIS, AFS, PA, County Line—Fourmile Project, management direction as outlined in the Allegheny National Forest Land and Resource Management Plan, implementation, Bradford Ranger District, Warren and McKean Counties, PA, wait period ends: July 21, 2003, contact: Jim Apgar (814) 362-4613.

EIS No. 030278, Final EIS, DOE, WA, Plymouth Generating Facility, construction and operation of a 307-megawatt (MW) natural gas-fired combined cycle power generation facility on a 44.5 acre site, conditional use/special use permit issuance, Benton County, WA, wait period ends: July 21, 2003, contact: Dawn R. Boorse (503) 230-5678.

EIS No. 030279, Final EIS, FHW, CA, Riverside County Integrated Project, Winchester to Temecula corridor construction of a new multi-modal transportation facility, route location and right-of-way preservation, Riverside County, CA, wait period ends: July 21, 2003, contact: Mary Ann Rondinella (916) 498-5040.

EIS No. 030280, Draft EIS, FHW, PA, City of Lebanon Bridge Over Norfolk Southern Project, construction, Norfolk Southern Railroad double-track main line between 12th Street and Lincoln Avenue, Lebanon County, PA, comment period ends: August 6, 2003, contact: James A. Cheatham (717) 221-3461. This document is available on the Internet at: http://www.cityoflebanon.com.

EIS No. 030281, Draft EIS, NPS, NC, Proposed Land Exchange Between the National Park Service and the Eastern Band of Cherokee Indians, exchange of land known as Ravensford Site for land known as Waterrock Knob Site, Great Smoky Mountains National Park, Cherokee, Graham, Jackson, Macon, Swain Counties, NC, comment period ends: August 18, 2003, contact: John Yancy (404) 562-3278.

EIS No. 030282, Draft EIS, AFS, MT, Programmatic EIS—Winter Motorized Recreation Amendment 24, proposal to change the Flathead National Land and Resource Management Plan, Flathead National Forest, Flathead, Lake and Lincoln Counties, MT, comment period ends: August 4, 2003, contact: Kimberly Smolt (406) 758-5243.

EIS No. 030283, Draft EIS, AFS, ID, North End Sheep Allotment Management Plan (AMP) Revision, proposal to authorize continued liverstock use, Caribou-Targhee National Forest, Soda Springs Ranger District, Caribou and Bonneville Counties, ID, comment period ends: August 4, 2003, contact: Derek Hinckley (208) 547-4356.

EIS No. 030284, Final EIS, DOE, WA, Kangley -Echo Lake Transmission Line Project, new 500-kilovolt (kv) transmission line construction, U.S. Army COE section 10 and 404 permits issuance, King County, WA, wait period ends: July 21, 2003, contact: Gene Lynard (503) 230-3790.

Amended Notices

EIS No. 030259, Draft EIS, FHW, NJ, Penns Neck Area Project, U.S. 1, section 2S and 3J, located in West Windsor and Princeton Townships, Mercer County, and Plainsboro Township, Middlesex County, NJ, comment period ends: August 1, 2003, contact: Young Kim (609) 637-4233.

Revision of FR notice published on 6/13/2003: correction to title.

Dated: June 17, 2003.
Joseph C. Montgomery,
Director, NEPA Compliance Division, Office of Federal Activities.

[FR Doc. 03-15671 Filed 6-19-03; 8:45 am]

BILLING CODE 6560-50-P